DEPARTMENT OF THE TREASURY

Submission for OMB Review; Comment Request

June 13, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 21, 2003 to be assured of consideration.

Internal Revenue Service (IRS)

OMB Number: 1545-0215.

Form Number: IRS Forms 5712 and 5712-A.

Type of Review: Revision.

Title: Election to be Treated as a Possessions Corporation Under Section 936 (5712); and Election and Verification of the Cost Sharing or Profit Split Method Under Section 936(h)(5)(5712-A).

Description: Domestic corporations may elect to be treated as possessions corporations on Form 5712. This election allows the corporations to take a tax credit. Possession corporations may elect on Form 5712-A to share their taxable income with their affiliates under Internal Revenue Code section 936(h)(5). These forms are used by the IRS to ascertain if corporations are entitled to the credit and if they may share their taxable income with their affiliates.

Respondents: Business or other for-profit, Farms, Federal Government, State, Local or Tribal Government.

Estimated Number of Respondents/Recordkeepers: 1,000.

Estimated Burden Hours Per Respondent/Recordkeeper:

| Form 5712 | Form 5712-A
Recordkeeping | 4 hr., 32 min | 5 hr., 15 min.
Learning about the law or the form | 35 min | 53 min.
Preparing and sending the form to the IRS | 42 min | 1 hr., 1 min.

Frequency of Response: Annually.

Estimated Total Reporting/Recordkeeping Burden: 7,037 hours.

OMB Number: 1545-0996.

Regulation Project Number: REG-130477 and REG-130481-00 Final.

Type of Review: Extension.

Title: Required Distributions from Retirement Plans.

Description: The regulations relates to the required minimum distributions from qualified plans, individual retirement plans, deferred compensation plans under section 457, and section 403(b) annuity contracts, custodial accounts, and retirement income accounts.

Respondents: State, Local or Tribal Government, Not-for-profit institutions.

Estimated Number of Respondents: 8,400.

Estimated Burden Hours Per Respondent: 1 hour.

Frequency of Response: On occasion.

Estimated Total Reporting Burden: 8,400 hours.

OMB Number: 1545-1059.

Form Number: IRS Forms 7018 and 7018-A.

Type of Review: Extension.

Title: Employer's Order Blank for Forms (7018); and Employer's Order Blank for 2003 Forms.

Description: Forms 7018 and 7018-A allow taxpayers who must file information returns a systematic way to order information tax forms material.

Respondents: Business or other for-profit.

Estimated Number of Respondents: 1,668,000.

Estimated Burden Hours Per Respondent: 3 minutes.

Frequency of Response: Annually.

Estimated Total Reporting Burden: 83,400 hours.

OMB Number: 1545-1821.

Regulation Project Number: REG-129271-02 Final.

Type of Review: Extension.

Title: Amendment of 26 CFR 301.6103(n)-1 to Incorporate Taxpayer Browsing Protection.

Description: Treasury Regulation section 301.6103(n)-1 sets for the conditions under which disclosures of returns and return information to any person (Contractor), or to an officer or employee of such Contractor, may be made to the extent necessary in connection with contractual procurement of property for purposes of tax administration. Under paragraph (c) of that section, each officer or employee of any Contractor to whom returns or return information is or may be disclosed as authorized by section 301.6103(n)-1 must be notified of the prohibitions against unauthorized disclosure and unauthorized inspection of return and return information, and the potential penalties for such acts as imposed by Internal Revenue Code sections 7213 and 7213A respectively.

Respondents: Business or other for-profit, Federal Government, State, Local or Tribal Government.

Estimated Number of Respondents: 2,500.

Estimated Burden Hours Per Respondent: 6 minutes.

Frequency of Response: Annually.

Estimated Total Reporting Burden: 250 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports, Management Officer.

[FR Doc. 03-15637 Filed 6-19-03; 8:45 am]

BILLING CODE 4830-01-P